FEDERAL COMMUNICATIONS COMMISSION

[IB Docket No. 03-38; DA 03-390]

Petitions for Protection From Whipsawing on the U.S.-Philippines Route

AGENCY: Federal Communications Commission.

ACTION: Notice; soliciting comments.

SUMMARY: AT&T and WorldCom filed petitions requesting that the FCC take action to protect U.S. international carriers and U.S. consumers from alleged “whipsawing” behavior occurring on the U.S.-Philippines route. The Commission issued a public notice soliciting comments on this issue.

DATES: Comments or oppositions are due on or before February 20, 2003 and reply comments are due on or before February 27, 2003.

ADDRESSES: Federal Communications Commission, Office of the Secretary, 445 12th Street, SW., Washington, DC 20554. See Supplementary Information for filing instructions.

FOR FURTHER INFORMATION CONTACT: James Ball, Chief, or Lisa Choi, Senior Legal Advisor, Policy Division, International Bureau, (202) 418-1460.

SUPPLEMENTARY INFORMATION: AT&T Corp. (AT&T) and WorldCom Inc. (WorldCom) filed petitions on February 7, 2003 requesting that the Commission take action to protect U.S.-international carriers and U.S. consumers from alleged “whipsawing” behavior occurring on the U.S.-Philippines route. “Whipsawing” is a form of anticompetitive behavior that involves the ability of foreign carriers to obtain unduly favorable terms and conditions from U.S.-international service providers by setting competing U.S. carriers against one another.

According to AT&T's petition, several carriers in the Philippines, including the Philippines Long Distance Telephone Company (PLDT), Globe Telecom, Inc., Digitel Telecommunications Philippines, Inc., Bayan Telecommunications Company, Smart Communications, Inc., and Subic Telecom, collectively referred to as “Philippine carriers,” are engaged in disrupting AT&T's network. AT&T states that each of these carriers has demanded a unilateral increase in the rate for termination services in the Philippines for U.S.-outbound traffic. Similarly, WorldCom's petition states that PLDT has blocked WorldCom's traffic in retaliation for WorldCom's refusal to agree to a similar rate increase for traffic terminating on PLDT's network in the Philippines.

AT&T and WorldCom have requested that the Commission take action to protect U.S. carriers in their negotiations on the U.S.-Philippines route from “whipsawing” and prevent further network disruptions and harm to U.S. consumers. Specifically, AT&T has requested that the Commission take urgent action to prevent further “whipsawing,” including interim relief. AT&T and WorldCom request that the Commission prohibit U.S. carriers from making payments to the Philippine carriers and PLDT, respectively, until international service is fully restored.

All filings concerning any or all matters in this Public Notice should refer to IB Docket No. 03-38. Pursuant to Sections 1.415 and 1.419 of the Commission's rules, 47 CFR 1.415, 1.419, interested parties may file comments or oppositions on or before February 20, 2003 and reply comments on or before February 27, 2003. Comments may be filed using the Commission's Electronic Comment Filing System (ECFS) or by filing paper copies. See Electronic Filing of Documents in Rulemaking Proceedings, 63 FR 24121 (1998).

Comments filed through the ECFS can be sent as an electronic file via the Internet to <http://www.fcc.gov/e-file/ecfs.html>. Generally, only one copy of an electronic submission must be filed. In completing the transmittal screen, commenters should include their full name, U.S. Postal Service mailing address, and the applicable docket number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. Filings can be sent by hand or messenger delivery, by commercial overnight courier, or by first-class or overnight U.S. Postal Service mail (although we continue to experience delays in receiving U.S. Postal Service mail).

In addition, one copy of each pleading must be sent to the Commission's duplicating contractor, Qualex International, 445 12th Street, SW., Room CY-B402, Washington, DC 20554; e-mail: qualexint@aol.com; facsimile: (202) 863-2898; phone: (202) 863-2893.

The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

Copies of the petitions and any subsequently-filed documents in this matter may be obtained from Qualex International, in person at 445 12th Street, SW., Room CY-B402, Washington, DC 20554, via telephone at (202) 863-2893, via facsimile at (202) 863-2898, or via e-mail at qualexint@aol.com. The petition and any associated documents are also available for public inspection and copying during normal reference room hours at the following Commission office: FCC Reference Information Center, 445 12th Street, SW., Room CY-A257, Washington, DC 20554. The applications and any subsequently filed documents in this matter are also available electronically through the Commission's Electronic Filing System (ECFS) which may be accessed on the Commission's Internet Web site at http://www.fcc.gov. Ex parte communications between outside parties and Commission staff concerning these petitions are permitted subject to the Commission's rules for “permit-but-disclose proceedings.” See 47 CFR 1.1206.

Federal Communications Commission.
James Ball,
Chief, Policy Division, International Bureau.

[FR Doc. 03-3854 Filed 2-13-03; 8:45 am]

BILLING CODE 6712-01-P